DEPARTMENT OF THE INTERIOR

National Park Service

[NPS-WASO-DPOL-1211-9076; 0004-SYP]

Charter Renewal for the National Park System Advisory Board

AGENCY: Department of the Interior, National Park Service.

ACTION: Charter Renewal.

SUMMARY: The Secretary of the Interior intends to renew the charter for the National Park System Advisory Board, in accordance with section 14(b) of the Federal Advisory Committee Act. This action is necessary and in the public interest in connection with the performance of statutory duties imposed upon the Department of the Interior and the National Park Service.

FOR FURTHER INFORMATION CONTACT: Shirley Sears Smith, (202) 354-3955.

SUPPLEMENTARY INFORMATION: The Board was established initially by section 3 of the Act of August 21, 1935 (49 Stat. 667; 16 U.S.C. 463), and has been in existence almost continuously since then. Pursuant to Public Law 111-8, the legislative authorization for the Board expired January 1, 2010. However, due to the importance of the issues on which the Board advises, the Secretary of the Interior exercised the authority contained in Section 3 of Public Law 91-383 (16 U.S.C. 1a-2(c)) to re-establish and continue the Board as a discretionary committee from January 1, 2010, until such time as it may be legislatively reauthorized. If the Board is reauthorized legislatively within 2 years of the date of the renewal charter, the Board will revert to a legislative Board.

The advice and recommendations provided by the Board and its subcommittees fulfill an important need within the Department of the Interior and the National Park Service, and it is necessary to re-establish the Board to ensure its work is not disrupted. The Board's twelve members will be balanced to represent a cross-section of disciplines and expertise relevant to the National Park Service mission. The renewal of the Board comports with the requirements of the Federal Advisory Committee Act, as amended (5 U.S.C., Appendix), and follows consultation with the General Services Administration.

Certification: I hereby certify that the renewal of the National Park System Advisory Board is necessary and in the public interest in connection with the performance of duties imposed on the Department of the Interior by the Act of August 25, 1916, 16 U.S.C. 1 et seq., and other statutes relating to the administration of the National Park System.

Dated: December 27, 2011.
Ken Salazar,
Secretary of the Interior.

[FR Doc. 2011-33628 Filed 12-30-11; 8:45 am]

BILLING CODE 4312-52-P